DEPARTMENT OF ENERGY

Federal Energy Regulatory Commission

[P-13177-000]

Borough of Weatherly, Pennsylvania; Notice of Application for Preliminary Permit Accepted for Filing and Soliciting Comments, Motions To Intervene, and Protests

July 29, 2008.

On April 17, 2008, Borough of Weatherly, Pennsylvania filed an application, pursuant to section 4(f) of the Federal Power Act (FPA), to study the feasibility of Francis E. Walter Dam Water Power Project. The proposed project would be located on the Lehigh River in Luzerne and Carbon Counties, Pennsylvania. The existing facilities are owned by the U.S. Army Corps of Engineers.

The proposed project using the existing U.S. Army Corps of Engineers' Francis E. Walter Dam and would consist of: (1) A proposed intake structure, (2) a proposed 1,150-foot-long, 16-foot diameter penstock, (3) a proposed powerhouse containing two generating units having a total installed capacity of 11.5 megawatts, (4) a proposed 0.5-mile-long, 12.47 kilovolt transmission line, and (5) appurtenant facilities. The proposed project would have an average annual generation of 26 gigawatt-hours and be sold to a local utility.

Applicant Contact: Charles F. Wheatley, Jr., Wheatley & Ranquist, P.A., 34 Defense Street, Annapolis, MD 21401, (410) 266-7524, wheatlaw@aol.com.

FERC Contact: Jake Tung, (202) 502-8757.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13177) in the docket number field to access the document. For assistance, call toll-free 1-866-208-3372.

Kimberly D. Bose,
Secretary.

[FR Doc. E8-17872 Filed 8-4-08; 8:45 am]

BILLING CODE 6717-01-P